DEPARTMENT OF COMMERCE

Foreign-Trade Zones Board

[Order No. 1865]

Grant of Authority; Establishment of a Foreign-Trade Zone Under the Alternative Site Framework; Genesee County, NY

Pursuant to its authority under the Foreign-Trade Zones Act of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (74 FR 1170-1173, 01/12/2009; (correction 74 FR 3987, 01/22/2009); 75 FR 71069-71070, 11/22/2010) as an option for the establishment or reorganization of general-purpose zones;

Whereas, the Genesee Gateway Local Development Corporation (the Grantee) has made application to the Board (Docket 69-2011, filed 10/27/11) requesting the establishment of a foreign-trade zone under the ASF with a service area of Genesee County, New York, adjacent to the Rochester U.S. Customs and Border Protection port of entry, and proposed Sites 1 and 2 would be categorized as magnet sites;

Whereas, notice inviting public comment has been given in the Federal Register (76 FR 67672, 11/02/11), and the application has been processed pursuant to the FTZ Act and the Board's regulations; and,

Whereas, the Board adopts the findings and recommendations of the examiner's report, and finds that the requirements of the FTZ Act and the Board's regulations are satisfied, and that approval of the application is in the public interest;

Now, therefore, the Board hereby grants to the Grantee the privilege of establishing a foreign-trade zone, designated on the records of the Board as Foreign-Trade Zone No. 284, as described in the application, and subject to the FTZ Act and the Board's regulations, including Section 400.13, to the Board's standard 2,000-acre activation limit for the overall general-purpose zone, and to an ASF sunset provision for magnet sites that would terminate authority for Site 1 if not activated within five years from the date of approval.

Signed at Washington, DC, this 4th day of December 2012.
Rebecca Blank,
Acting Secretary of Commerce, Chairman and Executive Officer, Foreign-Trade Zones Board.
Andrew McGilvray,
Executive Secretary.

[FR Doc. 2012-30846 Filed 12-20-12; 8:45 am]

BILLING CODE 3510-DS-P